DEPARTMENT OF DEFENSE

Defense Logistics Agency

Privacy Act of 1974; Systems of Records

AGENCY: Defense Logistics Agency.

ACTION: Notice to alter a system of records.

SUMMARY: The Defense Logistics Agency proposes to alter a system of records notice in its inventory of record systems subject to the Privacy Act of 1974 (5 U.S.C. 552a), as amended.

The alteration consists of expanding the categories of individuals covered; expanding the category of records being maintained; and adding a routine use to permit the release of records to hospitals, medical centers, medical or dental practitioners, or similar persons for the purpose of providing initial or follow-up care or treatment.

DATES: This action will be effective without further notice on September 23, 2004, unless comments are received that would result in a contrary determination.

ADDRESSES: Send comment to the Privacy Act Officer, Headquarters, Defense Logistics Agency, ATTN: DSS-B, 8725 John J. Kingman Road, Stop 6220, Fort Belvoir, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on August 18, 2004, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 18, 2004.
L.M. Bynum,
Alternate OSD Federal Register Liaison Officer, Department of Defense.

S600.30 CAAE

System name:

Safety and Health Accident Case Files (September 2, 1999, 48146).

Changes:

System identifier:

Delete ‘CAAE’ from entry.

System name:

Delete entry and replace with ‘Safety, Health, Injury, and Accident Records.’

System location:

Delete entry and replace with ‘Environment and Safety Office, Headquarters, Defense Logistics Agency, 8725 John J. Kingman Road, Stop 6220, Fort Belvoir, VA 22060-6221, and the DLA field activity Safety and Health offices.’ Official mailing addresses are published as an appendix to DLA's compilation of systems of records notices.

Records are also maintained by DLA Security Control Centers, Emergency Support Operations Centers, and fire and rescue departments certified to provide primary response and medical aid in emergencies. Official mailing addresses are available from the Privacy Act Officer, Headquarters, Defense Logistics Agency, ATTN: DSS-B, 8725 John J. Kingman Road, Stop 6220, Fort Belvoir, VA 22060-6221.

Categories of individuals covered by the system:

Delete entry and replace with “All individuals who suffer accidents, become injured or ill, or otherwise require emergency rescue or medical assistance while on DLA facilities.”

Categories of records in the system:

Delete entry and replace with “Name, Social Security Number, age, date of birth, home addresses and telephone numbers, place of employment, photographs, and proposed or actual corrective action, where appropriate. The records may also contain medical history data, current medications, allergies, vital signs and other medical details obtained at the site of injury or illness, details of treatment administered on the scene, name of receiving medical facility, names of units responding to the scene along with their response times, and whether the patient refused treatment or transport.”

* * * * *

Authority for maintenance of the system:

Add to entry “and DoD Instruction 6055.1, DoD Fire and Emergency Services.”

* * * * *

Purpose(s):

Delete entry and replace with “Information is maintained to administer emergency first aid or medical treatment; to identify and correct causes of accidents; to formulate improved accident prevention programs; to document emergency fire and rescue activities; to comply with regulatory reporting requirements; to identify individuals involved in repeated accidents; and to prepare statistical reports.”

* * * * *

Routine use of records maintained in the system, including categories of users and the purposes of such uses:

Add a new routine use “To hospitals, medical centers, medical or dental practitioners, or similar persons for the purpose of providing initial or follow-up care or treatment.”

* * * * *

Retention and disposal:

Add a new sentence to read “Documentation of fire department activities and actions pertaining to fire/emergency calls are destroyed after 7 years.”

* * * * *

S600.30

System name:

Safety, Health, Injury, and Accident Records.

System location:

Environment and Safety Office, Headquarters, Defense Logistics Agency, 8725 John J. Kingman Road, Stop 6220, Fort Belvoir, VA 22060-6221, and the DLA field activity Safety and Health offices. Official mailing addresses are published as an appendix to DLA's compilation of systems of records notices.

Records are also maintained by DLA Security Control Centers, Emergency Support Operations Centers, and fire and rescue departments certified to provide primary response and medical aid in emergencies. Official mailing addresses are available from the Privacy Act Officer, Headquarters, Defense Logistics Agency, ATTN: DDS-B, 8725 John J. Kingman Road, Stop 6220, Fort Belvoir, VA 22060-6221.

Categories of individuals covered by the system:

All individuals who suffer accidents, become injured or ill, or otherwise require emergency rescue or medical assistance while on DLA facilities.

Categories of records in the system:

Name, Social Security Number, age, date of birth, home addresses and telephone numbers, place of employment, accident reports, next of kin data, witness statements, photographs, and proposed or actual corrective action, where appropriate. The records may also contain medical history data, current medications, allergies, vital signs and other medical details obtained at the site of injury or illness, details of treatment administered on the scene, name of receiving medical facility, names of units responding to the scene along with their response times, and whether the patient refused treatment or transport.

Authority for maintenance of the system:

10 U.S.C. 136, Under Secretary of Defense for Personnel and Readiness; 29 U.S.C. 651 et seq., The Occupational Safety and Health Act of 1970 (OSHA); E.O. 9397 (SSN); E.O. 12196, Occupational Safety and Health Programs for Federal Employees; 29 CFR Part 1960, subpart I, Record keeping and Reporting Requirements for Federal Occupational Safety and Health Programs; and DoD Instruction 6055.1, DoD Fire and Emergency Services.

Purpose(s):

Information is maintained to administer emergency first aid or medical treatment; to identify and correct causes of accidents; to formulate improved accident prevention programs; to document emergency fire and rescue activities; to comply with regulatory reporting requirements; to identify individuals involved in repeated accidents; and to prepare statistical reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Labor to comply with the requirement to report Federal civilian employee on-the-job accidents (29 CFR 1960).

To hospitals, medical centers, medical or dental practitioners, or similar persons for the purpose of providing initial or follow-up care or treatment.

The DoD “Blanket Routine Uses” set forth at the beginning of DLA's compilation of systems of records notices apply to this system.

Policies and practices for storing, retrieving, accessing, retaining, and disposing of records in the system:

Storage:

Records are stored in paper and electronic formats.

Retrievability:

Retrieved by name, Social Security Number, or mishap report number.

Safeguards:

Records are maintained in areas accessible only to DLA personnel who must use the records to perform their duties. The computer files are password protected with access restricted to authorized users. Records are secured in locked or guarded buildings, locked offices, or locked cabinets during non-duty hours.

Retention and disposal:

Cases involving reportable mishaps are destroyed five years after case is closed. Cases involving non-reportable mishaps are destroyed three years after case is closed. Documentation of fire department activities and actions pertaining to fire/emergency calls are destroyed after 7 years.

System manager(s) and address:

Staff Director, Environment and Safety, Headquarters, Defense Logistics Agency, 8725 John J. Kingman Road, Stop 6220, Fort Belvoir, VA 22060-6221; Commander, Defense Distribution Center, 2001 Mission Drive, New Cumberland, PA 17070-5000; Commander, Defense Supply Center Columbus, 3990 Broad Street, Columbus, OH 43216-5000; Commander, Defense Supply Center Richmond, 8000 Jefferson Davis Highway, Richmond, VA 23297-5000; and Commander, Defense Logistics Information Services, 74 Washington Avenue North, #7, Battle Creek, MI 49017-3084.

Notification procedure:

Individuals seeking to determine whether this system of records contains information about themselves should address written inquiries to the Privacy Act Officer, Defense Logistics Agency, ATTN: DSS-B, 8725 John J. Kingman Road, Stop 6220, Fort Belvoir, VA 22060-6221, or the Privacy Act Officer of the particular DLA field activity involved. Official mailing addresses are published as an appendix to DLA's compilation of systems of records notices.

Record access procedures:

Individuals seeking access to records about themselves contained in this system of records should address inquiries to the Privacy Act Officer, Defense Logistics Agency, ATTN: DSS-B, 8725 John J. Kingman Road, Stop 6220, Fort Belvoir, VA 22060-6221, or the Privacy Act Officer of the particular DLA field activity involved. Official mailing addresses are published as an appendix to DLA's compilation of systems of records notices.

Contesting record procedures:

The DLA rules for accessing records, for contesting contents and appealing initial agency determinations are contained in 32 CFR part 323, or may be obtained from the Privacy Act Officer, Headquarters, Defense Logistics Agency, ATTN: DSS-B, 8725 John J. Kingman Road, Stop 6220, Fort Belvoir, VA 22060-6221.

Record source categories:

Record subject, supervisors, medical units, security offices, police, fire departments, investigating officers, or witnesses to accident.

Exemptions claimed for the system:

None.

[FR Doc. 04-19389 Filed 8-23-04; 8:45 am]

BILLING CODE 5001-06-M